NATIONAL CREDIT UNION ADMINISTRATION

Sunshine Act; Notice of Agency Meeting

TIME AND DATE: 10:00 a.m., Thursday, July 25, 2013

PLACE: Board Room, 7th Floor, Room 7047, 1775 Duke Street (All visitors must use Diagonal Road Entrance), Alexandria, VA 22314-3428

STATUS: Open

MATTERS TO BE CONSIDERED: 1. Interpretive Ruling and Policy Statement, Minority Credit Union Preservation Program.

2. Board Briefing—Interagency Proposal, Joint Diversity Standards for Regulated Entities.

3. NCUA's Rules and Regulations, Electronic Filing of Financial Reports.

4. Request from San Francisco FCU to Expand its Community Charter Boundaries.

5. Quarterly Insurance Fund Report.

6. 2013 Temporary Corporate Credit Union Stabilization Fund Assessment.

7. Reprogramming of NCUA's Operating Budget for 2013.

FOR FURTHER INFORMATION CONTACT: Mary Rupp, Secretary of the Board, Telephone: 703-518-6304

Mary Rupp,
Secretary of the Board.

[FR Doc. 2013-17651 Filed 7-18-13; 4:15 pm]

BILLING CODE 7535-01-P